DEPARTMENT OF COMMERCE

National Oceanic and Atmospheric Administration

[I.D. 030104D]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings March 29 through April 6, 2004 in Anchorage, AK.

DATES: The meetings will be held on March 29 through April 6, 2004. See SUPPLEMENTARY INFORMATION for specific dates and times.

ADDRESSES: The meetings will be held at the Anchorage Hilton Hotel, 500 W 3rd Avenue, Anchorage, AK.

Council address: North Pacific Fishery Management Council, 605 W. 4th Avenue, Suite 306, Anchorage, AK 99501-2252.

FOR FURTHER INFORMATION CONTACT: Council staff, telephone: 907-271-2809.

SUPPLEMENTARY INFORMATION: The Council's Advisory Panel will begin at 8 a.m., Monday, March 29, and continue through Saturday, April 3rd, 2004. The Scientific and Statistical Committee will begin at 8 a.m. on Monday, March 29, and continue through Wednesday, March 31, 2004.

The Council will begin its plenary session at 8 a.m. on Wednesday, March 31 continuing through Tuesday April 6. All meetings are open to the public except executive sessions. The Enforcement Committee will meet Monday, March 29.

Council Plenary Session: The agenda for the Council's plenary session will include the following issues. The Council may take appropriate action on any of the issues identified.

1. Reports

(a) Executive Director's Report

(b) NMFS Report

(c) Enforcement Report

(d) Coast Guard Report

(e) Alaska Department of Fish & Game Report

(f) U.S. Fish & Wildlife Report

2. Draft Programmatic Supplemental Environment Impact Statement (DPSEIS): (a) Final action on Groundfish Programmatic Supplemental Environmental Impact Statement; (b) Final Review of Groundfish Fishery Management Plan.

3. Habitat Area Particular Concern (HAPC): Receive report from Plan Team on HAPC proposals.

4. Aleutian Island Pollock: Initial Review of analysis to establish Adak pollock allocation.

5. Gulf of Alaska (GOA) Groundfish Rationalization: Discuss State water management issues.

6. Improved Retention/Improved Utilization (IR/IU): Receive progress report on Amendment 80 and provide input as necessary.

7. Observer Program: (a) Receive Observer Advisory Committee report; (b) Receive update on analysis and provide input as necessary.

8. Community Development Quota (CDQ): (a) Receive report on status of Bering Sea Aleutian Island Amendment 71; (b) Discuss fishery management issues.

9. National/Regional bycatch plans: Receive update.

10. Scallop Fishery Management Plan: Receive update and develop alternatives to modify the Licence Limitation Program.

11. Staff Tasking: Review tasking and provide direction to staff.

12. Other Business.

Although non-emergency issues not contained in this agenda may come before this Council for discussion, in accordance with the Magnuson-Stevens Fishery Conservation and Management Act, these issues may not be the subject of formal Council action during the meeting. Council action will be restricted to those issues specifically identified in the agenda listed in this notice and any issues arising after publication of this notice that require emergency action under section 305(c) of the Magnuson-Stevens Act, provided the public has been notified of the Council's intent to take final action to address the emergency.

Scientific and Statistical Committee (SSC): The SSC agenda will include the following issues:

1. Draft Programmatic Supplemental Environmental Impact Statement (DPSEIS)

2. HAPC

3. Aleutian Island Pollock

4. National/Regional bycatch plans.

5. Scallop Fishery Management Plan

Advisory Panel: The Advisory Panel will address the same agenda issues as the Council.

Enforcement Committee: The Enforcement Committee will meet during each meeting of the Council to discuss enforcement issues or concerns related to any subject on the Council agenda.

Special Accommodations

These meetings are physically accessible to people with disabilities. Requests for sign language interpretation or other auxiliary aids should be directed to Gail Bendixen at 907-271-2809 at least 7 working days prior to the meeting date.

Dated: March 2, 2004.
Peter H. Fricke,
Acting Director, Office of Sustainable Fisheries, National Marine Fisheries Service.

[FR Doc. 04-5184 Filed 3-5-04; 8:45 am]

BILLING CODE 3510-22-S